DEPARTMENT OF ENERGY

Notice of Change in National Environmental Policy Act (NEPA) Compliance Approach for the Depleted Uranium Hexafluoride (DUF6) Conversion Facilities Project

AGENCY: Department of Energy.

ACTION: Notice of revised approach.

SUMMARY: On September 18, 2001, the U.S. Department of Energy (DOE) published a Notice of Intent (NOI) in the Federal Register, announcing its intention to prepare an Environmental Impact Statement (EIS) for a proposed action to construct, operate, maintain, and decontaminate and decommission two depleted uranium hexafluoride (DUF6) conversion facilities at Portsmouth, Ohio, and Paducah, Kentucky. DOE held three scoping meetings to provide the public with an opportunity to present comments on the scope of the EIS, and to ask questions and discuss concerns with DOE officials regarding the EIS. The scoping meetings were held in Piketon, Ohio on November 28, 2001; in Oak Ridge, Tennessee on December 4, 2001, and in Paducah, Kentucky, on December 6, 2001. The purpose of this Notice is to inform the public of the change in the approach for the NEPA review for the DUF6 conversion projects for Paducah and Portsmouth, and to invite public comments on the revised approach.

DATES: Comments received by May 30, 2003, will be considered in the preparation of the draft EISs. Comments received after that date will be considered to the extent practicable.

ADDRESSES: Comments and suggestions can be forwarded to Gary Hartman, U.S. Department of Energy—Oak Ridge Operations Office, Oak Ridge, Tennessee 37831, telephone (865) 576-0273, fax: (865) 576-0746, e-mail: hartmangs@oro.doe.gov. Also contact Mr. Hartman with any questions regarding the DOE DUF6 conversion project.

FOR FURTHER INFORMATION CONTACT: For general information on the DOE NEPA process, contact Carol M. Borgstrom, Director, Office of NEPA Policy and Compliance (EH-42), U.S. Department of Energy, 1000 Independence Avenue, SW., Washington, DC 20585-0119, telephone (202) 586-4600 or leave a message at (800) 472-2756.

SUPPLEMENTARY INFORMATION: On September 18, 2001, the U.S. Department of Energy (DOE) published a Notice of Intent (NOI) in the Federal Register (66 FR 48123), announcing its intention to prepare an Environmental Impact Statement (EIS) for a proposed action to construct, operate, maintain, and decontaminate and decommission two depleted uranium hexafluoride (DUF6) conversion facilities at Portsmouth, Ohio, and Paducah, Kentucky. DOE held three scoping meetings to provide the public with an opportunity to present comments on the scope of the EIS, and to ask questions and discuss concerns with DOE officials regarding the EIS. The scoping meetings were held in Piketon, Ohio on November 28, 2001; in Oak Ridge, Tennessee on December 4, 2001, and in Paducah, Kentucky, on December 6, 2001. The alternatives identified in the NOI included a two-plant alternative (two conversion plants would be built, one at the Paducah Gaseous Diffusion Plant site and another at the Portsmouth Gaseous Diffusion Plant site), a one-plant alternative (only one plant would be built either at the Paducah or the Portsmouth site), a use of existing UF6 conversion capacity alternative (DOE would consider using already-existing UF6 conversion capacity at commercial nuclear fuel fabrication facilities in lieu of constructing one or two new plants), and the no action alternative. For alternatives that involved constructing one or two new plants, DOE planned to consider alternative conversion technologies, local siting alternatives within the Paducah and Portsmouth plant boundaries, and the shipment of DUF6 cylinders stored at the East Tennessee Technology Park (ETTP) near Oak Ridge, Tennessee, to either the Portsmouth or Paducah sites. The technologies to be considered in the EIS were those submitted in response to a Request for Proposals (RFP) for conversion services that DOE had issued in October 2000, plus any other technologies that DOE believed must be considered.

Then, on August 2, 2002, the U.S. Congress passed the 2002 Supplemental Appropriations Act for Further Recovery From and Response to Terrorist Attacks on the United States (Public Law 107-206). In pertinent part, this law required that, within 30 days of enactment, DOE award a contract for the scope of work described in the October 2000 RFP, including design, construction, and operation of a DUF6 conversion plant at each of the Department's Paducah, Kentucky and Portsmouth, Ohio sites. Accordingly, the DOE awarded a contract to Uranium Disposition Services, LLC, on August 29, 2002.

In light of Public Law 107-206, and DOE's award of the contract to Uranium Disposition Services, DOE reevaluated the appropriate scope of its NEPA review and decided to prepare two separate EIS's, one for the plant proposed for the Paducah site and a second for the Portsmouth site. The proposed alternatives to be considered in each EIS would focus primarily on where the conversion facilities will be sited at the respective sites, and a no action alternative. DOE will also consider impacts arising from shipment of ETTP cylinders for conversion to each site.

Schedule

Both draft EISs are scheduled to be published in July 2003. A 45-day comment period on the draft EISs is planned, which will include public hearings to receive comments. Availability of the draft EISs, the dates of the public comment period, and information about the public hearings will be announced in the Federal Register and in the local news media.

The final EISs are scheduled for publication in January 2004. The Records of Decision would be issued no sooner than 30 days after the U.S. Environmental Protection Agency notices of availability of the final EISs are published in the Federal Register. As directed by Pub. L. 107-206, construction of the DUF6 conversion facilities is scheduled to begin not later than July 31, 2004.

The purpose of this Notice is to inform the public of the change in the approach for the NEPA review for the DUF6 conversion projects for Paducah and Portsmouth, and to invite public comments on the revised approach.

David R. Allen,
NEPA Compliance Officer, Oak Ridge Operations Office.

[FR Doc. 03-10373 Filed 4-25-03; 8:45 am]

BILLING CODE 6450-01-P